DEPARTMENT OF ENERGY

Federal Energy Regulatory Commission

Sunshine Act Meetings

The following notice of meeting is published pursuant to section 3(a) of the government in the Sunshine Act (Pub. L. 94-409), 5 U.S.C. 552b: Agency Holding Meeting: Federal Energy Regulatory Commission.

TIME AND DATE: June 16, 2022, 10:00 a.m.

PLACE: Room 2C, 888 First Street NE, Washington, DC 20426.

STATUS: Open to the public.¹

¹ The Commission Meeting is open for attendance from the public. Members of the public who are interested in attending the meeting must adhere to safety and health protocols detailed on the Commission's website to be granted admission into the building. Information on these protocols can be accessed at http://www.ferc.gov, which will be posted on FERC's website on June 10, 2022.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed online at the Commission's website at https://elibrary.ferc.gov/eLibrary/search using the eLibrary link.

1091st—Meeting, Open Meeting
[June 16, 2022, 10:00 a.m.]
Item No. | Docket No. | Company
Administrative
A-1 | AD22-1-000 | Agency Administrative Matters.
A-2 | AD22-2-000 | Customer Matters, Reliability, Security and Market Operations.
Electric
E-1 | RM22-14-000 | Improvements to Generator Interconnection Procedures and Agreements.
E-2 | RM22-10-000 | Transmission System Planning Performance Requirements for Extreme Weather.
E-3 | RM22-16-000, AD21-13-000 | One-Time Informational Reports on Extreme Weather Vulnerability Assessments Climate Change, Extreme Weather, and Electric System Reliability.
E-4 | EL15-70-003, EL15-71-003, EL15-72-003 | Public Citizen, Inc. v. Midcontinent Independent System Operator, Inc. The People of the State of Illinois, By Illinois Attorney General Lisa Madigan v. Midcontinent Independent System Operator, Inc. Southwestern Electric Cooperative, Inc. v. Midcontinent Independent System Operator, Inc., Dynegy, Inc., and Sellers of Capacity into Zone 4 of the 2015-2016 MISO Planning Resource Auction.
E-5 | ER21-2455-000, ER21-2455-001 | California Independent System Operator Corporation.
E-6 | ER21-2460-000, ER21-2460-001 | New York Independent System Operator, Inc.
E-7 | ER22-707-001 | ISO New England Inc. and New England Power Company d/b/a National Grid.
E-8 | ER21-56-000 | Guzman Energy, LLC
E-9 | ER21-61-000 | El Paso Electric Company.
E-10 | ER21-58-000 | TransAlta Energy Marketing (U.S.) Inc.
E-11 | ER17-910-003, ER17-1509-003, ER17-2181-003, ER18-1102-002 | Pacific Gas and Electric Company.
E-12 | RD22-3-000 | North American Electric Reliability Corporation.
E-13 | ER22-1247-000 | NSTAR Electric Company and Park City Wind LLC.
Gas
G-1 | RP21-1001-008 | Texas Eastern Transmission, LP.
Hydro
H-1 | P-3063-023 | Blackstone Hydro Associates.
H-2 | P-619-164 | Pacific Gas and Electric Company and City of Santa Clara.
H-3 | P-2004-302 | City of Holyoke Gas and Electric Department.
H-4 | P-2107-047 | Pacific Gas and Electric Company.
H-5 | P-3777-011 | The Town of Rollinsford, New Hampshire.
Certificates
C-1 | CP20-312-000 RP21-882-000 | Equitrans, L.P.
C-2 | CP22-167-000 | Roaring Fork Midstream, LLC.

Issued: June 9, 2022.
Kimberly D. Bose,
Secretary.

A free webcast of this event is available through http://ferc.capitolconnection.org/. Anyone with internet access who desires to view this event can do so by navigating to www.ferc.gov's Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2022-12909 Filed 6-13-22; 4:15 pm]

BILLING CODE 6717-01-P